DEPARTMENT OF ENERGY

Federal Energy Regulatory Commission

[Docket No. EL09-43-000]

Arkansas Public Service Commission, Complainant v. Entergy Corporation, Entergy Services, Inc., Entergy Louisiana, Inc., Entergy Arkansas, Inc., Entergy Mississippi, Inc., Entergy New Orleans, Inc., Entergy Gulf States Louisiana, LLC, Entergy Texas, Inc., Respondents; Notice of Complaint

March 23, 2009.

Take notice that on March 20, 2009, pursuant to section 206 of the Commission's Rules of Practice and Procedure, 18 CFR 385.206 (2008) and sections 206 and 306 of the Federal Power Act, 16 U.S.C. 824(e) and 825(e), Arkansas Public Service Commission (Complainant) filed a formal complaint against Entergy Corporation, Entergy Services, Inc., Entergy Louisiana, LLC, Entergy Arkansas, Inc., Entergy Mississippi, Inc., Entergy New Orleans, Inc., Entergy Gulf States Louisiana, LLC, and Entergy Texas, Inc. (Respondents) seeking relief by way of a modification of certain text found in Section 30.12 of Service Schedule MSS-3 to the System Agreement (Rough Production Cost Equalization Formula Tariff) among the Complainant and Respondents, which relates to the definitions of depreciation expense, nuclear decommissioning expense, and accumulated provision for depreciation and amortization.

The Complainant certifies that copies of the complaint were served on the representatives of the Respondents listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 9, 2009.

Nathaniel J. Davis, Sr.,
Deputy Secretary.

[FR Doc. E9-6949 Filed 3-27-09; 8:45 am]

BILLING CODE